DEPARTMENT OF COMMERCE

National Oceanic and Atmospheric Administration

RIN 0648-PR-A003 X

Marine Mammals; File No. 22629

AGENCY: National Marine Fisheries Service (NMFS), National Oceanic and Atmospheric Administration (NOAA), Commerce.

ACTION: Notice of public hearing.

SUMMARY: Notice is hereby given that the NMFS Office of Protected Resources will hold a public hearing related to a permit application (File No. 22629) submitted by Mystic Aquarium (Responsible Party: Stephen M. Coan, Ph.D.) to import five beluga whales (Delphinapterus leucas) for scientific research purposes.

DATES: The public hearing will be held from 1 p.m. to 3 p.m. (local time) on November 18, 2019.

ADDRESSES: The public hearing will be held in the Great Hall (1st Floor) at the Silver Spring Civic Center, 1 Veterans Place, Silver Spring, MD 20910.

FOR FURTHER INFORMATION CONTACT: Amy Sloan, Courtney Smith, or Jennifer Skidmore, (301) 427-8401.

SUPPLEMENTARY INFORMATION:

Background

On October 1, 2019, NMFS published notice of receipt of a permit application submitted by Mystic Aquarium to import five captive-born beluga whales for scientific research purposes (84 FR 52072). The permit application, Federal Register notice of receipt of the application, and information on how to submit written comments are available online at https://www.fisheries.noaa.gov/action/permit-application-import-5-beluga-whales-scientific-research-file-no-22629-mystic-aquarium. The public comment period ends on December 2, 2019.

Public Hearing

The public hearing will begin with a brief presentation by NMFS describing the permit application and decision process. Following the presentation, members of the public will have the opportunity to provide oral comments regarding the permit application and may also submit written comments at the hearing. Any interested person may appear in person, or through representatives, and may submit any relevant material, data, views, or comments. A record of the hearing will be kept. All personal identifying information (e.g., name, address, etc.), confidential business information, or otherwise sensitive information submitted voluntarily by the commenter will be publicly accessible.

Reasonable Accommodations

People needing accommodations so that they may attend and participate at the public hearings should submit a request for reasonable accommodations as soon as possible, and no later than 7 business days prior to the hearing date, by contacting Jennifer Skidmore at (301) 427-8401.

Authority: 16 U.S.C. 1374.

Dated: October 29, 2019.
Julia Marie Harrison,
Chief, Permits and Conservation Division, Office of Protected Resources, National Marine Fisheries Service.

[FR Doc. 2019-23889 Filed 10-31-19; 8:45 am]

BILLING CODE 3510-22-P